FEDERAL COMMUNICATIONS COMMISSION

[OMB 3060-0484, OMB 3060-1003; FR ID 80736]

Information Collections Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before June 10, 2022. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: OMB Control Number: 3060-0484.

Title: Amendments to Part 4 of the Commission's Rules Concerning Disruptions to Communications.

Form Number: N/A.

Type of Review: Revision of a currently approved collection.

Respondents: Business or other for-profit; Not-for-profit institutions; State, Local or Tribal Government.

Number of Respondents and Responses: 1,065 respondents; 27,395 responses.

Estimated Time per Response: 1 hour-2 hours (average per response).

Frequency of Response: On occasion and annual reporting requirements and recordkeeping requirement.

Obligation to Respond: Mandatory and Voluntary. Statutory authority for this collection is contained in sections 1, 4(i), 4(j), 4(o), 251(e)(3), 254, 301, 303(b), 303(g), 303(r), 307, 309(a), 309(j), 316, 332, and 403 of the Communications Act of 1934, as amended, and section 706 of the Telecommunications Act of 1996, 47 U.S.C. 151, 154(i)-(j) & (o), 251(e)(3), 254, 301, 303(b), 303(g), 303(r), 332, 403, and 1302.

Total Annual Burden: 54,215 hours.

Total Annual Cost: No Cost.

Privacy Act Impact Assessment: No impact(s).

Nature and Extent of Confidentiality: In accordance with 47 CFR 4.2, reports and information contained in the underlying NORS filings are presumed confidential. The filings are shared with the Department of Homeland Security through password-protected real time access to NORS. Other persons seeking disclosure must follow the procedure delineated in 47 CFR 0.457 and 0.459 of the Commission's Rules for requests for and disclosure of information. The modified collection proposed here will allow “need to know” agencies acting on behalf of the federal government, the 50 states, the District of Columbia, Tribal Nations, and the U.S. territories access to confidential information derived from NORS filings based on events occurring within an agency's jurisdiction, provided those agencies maintain the confidentiality of the information and report any breach of that confidentiality.

The Commission has adopted procedures allowing state, federal, local, and Tribal agencies with a demonstrated “need to know” to apply for “read-only” access to NORS reports impacting locations where the agency has jurisdiction. To protect the confidentiality of the NORS and DIRS information disclosed to these Participating Agencies, the Commission limited the access to only those agencies who complete the registration process and then limits by geographic area the reports available to each Participating Agency. The Commission also adopted safeguards to protect the data accessed by Participating Agencies from manipulation and from distribution to unauthorized recipients.

Needs and Uses: The general purpose of the Commission's Part 4 rules is to gather sufficient information regarding disruptions to telecommunications to facilitate FCC monitoring, analysis, and investigation of the reliability and security of voice, paging, and interconnected Voice over Internet Protocol (interconnected VoIP) communications services, and to identify and act on potential threats to our Nation's telecommunications infrastructure. The Commission uses this information collection to identify the duration, magnitude, root causes, and contributing factors with respect to significant outages, and to identify outage trends; support service restoration efforts; and help coordinate with public safety officials during times of crisis. The Commission also maintains an ongoing dialogue with reporting entities, as well as with the communications industry at large, generally regarding lessons learned from the information collection in order to foster a better understanding of the root causes of significant outages and to explore preventive measures in the future so as to mitigate the potential scale and impact of such outages.

In a Second Report and Order adopted on March 18, 2021, as FCC 21-34, the Commission adopted rules allowing certain federal, state, and Tribal Nation agencies 10 (Participating Agencies) to access to certain geographically relevant outage reports filed in the Commission's Network Outage Reporting System (NORS). The information collections and record keeping provisions adopted will allow federal, state and Tribal Nation agencies (Participating Agencies) to apply for, and receive access to, NORS report in the areas where they have jurisdiction. The collection will further enable these Participating Agencies, at their election, to share NORS reports with qualified local agencies whose jurisdiction is affected by an outage, while still maintaining the confidentiality of the substantive data. The changes to the data collections fields in the NORS filings made by service providers will further facilitate the ability of Participating Agencies to access those reports relevant to their specific geographies. Finally, the changes to the information collection and associated recordkeeping requirements, including retention by participating agencies of qualification forms submitted by local agency seeking access to NORS data, as well as a list of which local agencies receive information from the Participating Agency, training materials setting clear parameters for the use of NORS data, and a list of those persons granted NORS account access, will enable auditing functions to ensure accountability in the use of NORS information and immediate reporting of breaches of access or confidentiality protocols.

OMB Control Number: 3060-1003.

Title: Communications Disaster Information Reporting System (DIRS).

Form Number: N/A.

Type of Review: Revision of a currently approved collection.

Respondents: Business or other for-profit; Not-for-profit institutions; State, Local or Tribal Government.

Number of Respondents and Responses: 400 respondents; 104,000 responses.

Estimated Time per Response: 1 hour-1.5 hours (average per response).

Frequency of Response: On occasion and annual reporting requirements and recordkeeping requirements.

Obligation to Respond: Voluntary. Statutory authority for this collection is contained in sections 1, 4(i), 4(j), 4(o), 251(e)(3), 254, 301, 303(b), 303(g), 303(r), 307, 309(a), 309(j), 316, 332, and 403 of the Communications Act of 1934, as amended, and section 706 of the Telecommunications Act of 1996, 47 U.S.C. 151, 154(i)-(j) & (o), 251(e)(3), 254, 301, 303(b), 303(g), 303(r), 332, 403, and 1302.

Total Annual Burden: 16,320 hours.

Total Annual Costs: No Cost.

Privacy Act Impact Assessment: No impact(s).

Nature and Extent of Confidentiality: The Commission provides respondents with assurances that their collected filings reports will be treated with a presumption of confidentiality. As noted in the DIRS User Manual, “[b]ecause the information that communications companies input to [their collected filings] is sensitive for national security and/or commercial reasons, [the collected filings] shall be treated as presumptively confidential upon filing.”

In accordance with 47 CFR 4.2, reports and information contained in the underlying DIRS filings are presumed confidential. The filings are shared with the Department of Homeland Security through password-protected real time access to NORS. Other persons seeking disclosure must follow the procedure delineated in 47 CFR 0.457 and 0.459 of the Commission's Rules for requests for and disclosure of information. The modified collection proposed here will allow “need to know” agencies acting on behalf of the federal government, the 50 states, the District of Columbia, Tribal Nations, and the U.S. territories access to confidential information derived from DIRS filings based on events occurring within an agency's jurisdiction, provided those agencies maintain the confidentiality of the information and report any breach of that confidentiality.

The Commission has adopted procedures allowing state, federal, local, and Tribal agencies with a demonstrated “need to know” to apply for “read-only” access to DIRS reports impacting locations where the agency has jurisdiction. To protect the confidentiality of the NORS and DIRS information disclosed to these Participating Agencies, the Commission limited the access to only those agencies who complete the registration process and then limits by geographic area the reports available to each Participating Agency. The Commission also adopted safeguards to protect the data accessed by Participating Agencies from manipulation and from distribution to unauthorized recipients.

Needs and Uses: The Commission launched the Disaster Information Reporting System (DIRS) in 2007 pursuant to its mandate to promote the safety of life and property through the use of wire and radio communication as required by the Communications Act of 1934, as amended. DIRS is a voluntary, efficient, and web-based system that communications companies may use to report their infrastructure status during times of crisis (e.g., related to a disaster). DIRS uses a number of template forms tailored to different communications sectors (i.e., wireless, wireline, broadcast, and cable) to facilitate the entry of this information. To use DIRS, a company first inputs its emergency contact information. After this, they submit information using the template form appropriate for their communications sector. In a Second Report and Order adopted on March 18, 2021, as FCC 21-34, the Commission adopted rules allowing certain federal, state, and Tribal Nation agencies (Participating Agencies) to access to certain geographically relevant reports filed in the Commission's Disaster Information Reporting System (DIRS). The information collections and record keeping provisions adopted will allow Participating Agencies to apply for, and receive access to, DIRS report in the areas where they have jurisdiction. The collection will further enable these Participating Agencies, at their election, to share DIRS reports with qualified local agencies whose jurisdiction is affected by a disaster, while still maintaining the confidentiality of the substantive data. The changes to the data collections fields in the DIRS filings made by service providers will further facilitate the ability of Participating Agencies to access those reports relevant to their specific geographies. Finally, the changes to the information collection and associated recordkeeping requirements, including retention by participating agencies of qualification forms submitted by local agency seeking access to DIRS data, as well as a list of which local agencies receive information from the Participating Agency, training materials setting clear parameters for the use of DIRS data, and a list of those persons granted DIRS account access, will enable auditing functions to ensure accountability in the use of DIRS information and immediate reporting of breaches of access or confidentiality protocols.

The Commission notes that the information sharing framework established in the Second Report and Order allows for access to be granted not only for DIRS, but also to the Commission's Network Outage Reporting System (NORS). We note that the process and requirements for Participating Agencies under this framework is identical, regardless of whether they seek access to NORS, DIRS, or both. Because the Commission anticipates that NORS and DIRS access will be requested together in most cases, it believes that the estimated burden hours and costs for Participating Agencies associated with DIRS access are fully included in the estimates that it has separately submitted as part of its collection on Part 4 of the Commission's Rules Concerning Disruptions to Communications, OMB Control No. 3060-0484. To avoid double-counting the estimated burden hours and costs associated with both collections, the Commission estimates the marginal cost of the Participating Agency aspect of this collection to be zero.

Federal Communications Commission.
Marlene Dortch,
Secretary, Office of the Secretary.

[FR Doc. 2022-07630 Filed 4-8-22; 8:45 am]

BILLING CODE 6712-01-P